DEPARTMENT OF DEFENSE

Department of the Army, Corps of Engineers

Notice of Solicitation of Applications for Stakeholder Representative Members of the Committee on Levee Safety

AGENCY: U.S. Army Corps of Engineers, Department of Defense (DoD).

ACTION: Notice.

SUMMARY: The Assistant Secretary of the Army for Civil Works (ASACW) is soliciting applications to fill non-federal stakeholder representative member positions for the Committee on Levee Safety (Committee) in accordance with the National Levee Safety Program. The Committee on Levee Safety is being formed to advise the U.S. Army Corps of Engineers (Corps) and the Federal Emergency Management Agency (FEMA) on various aspects of developing the National Levee Safety Program. The Committee will be comprised of 14 voting members from state, local, regional, and tribal governments, as well as the private sector. This notice provides expectations for Committee members and announces the process for applying for membership on the Committee.

DATES: Applications must be submitted on or before March 22, 2022.

ADDRESSES: Interested persons may apply by submitting the required information to any of the following:

Email: hq-leveesafety@usace.army.mil and include “Committee on Levee Safety” in the subject line of the message.

Mail: U.S. Army Corps of Engineers, Vicksburg District, ATTN: Levee Safety Center—RM 221, 4155 East Clay Street, Vicksburg, MS 39183.

Hand Delivery/Courier: Due to security requirements, we cannot receive applications by hand delivery or courier.

FOR FURTHER INFORMATION CONTACT: Ms. Tammy Conforti, 202-365-6586, email hq-leveesafety@usace.army.mil or visit www.leveesafety.org.

SUPPLEMENTARY INFORMATION: Purpose: The purpose of the Committee is to offer advice and recommendations on the effectiveness of the National Levee Safety Program. This Committee will be established under the authority of 33 U.S.C. 3302. Associated with the initial development of key deliverables for the establishment of the National Levee Safety Program, the Committee will provide advice to the U.S. Army Corps of Engineers (USACE) and the Federal Emergency Management Agency (FEMA) on a broad range of issues, topics, or alternatives as determined as needed by both agencies in conjunction with the program development efforts being led by both agencies.

Committee Duties: The following are the anticipated duties of the Committee.

(1) Provide feedback on broader stakeholder engagement approaches including identification of stakeholders and networks to be included.

(2) Publicize opportunities to participate in formal and informal stakeholder engagement activities.

(3) Strive to provide consensus advice on program and product scope, assumptions, criteria, and content for key deliverables.

(4) Provide feedback on approaches and materials to communicate program objectives and benefits to potential beneficiaries.

(5) Help identify and avoid implementation challenges that can be worked into the design of a program or implementation approach.

Non-voting Members: The following are the non-voting members of the Committee.

(1) The Assistant Secretary of the Army for Civil Works (ASACW) (or a designee of the ASACW) to represent the U.S. Army Corps of Engineers (USACE).

(2) The Administrator of the Federal Emergency Management Agency (FEMA) (or a designee of the Administrator) to represent FEMA.

Voting Members: The following are the voting members of the Committee to be appointed by the ASACW.

(1) Eight representatives of state levee safety agencies, defined as current state government employees of a state agency that has regulatory authority over the safety of any non-federal levee in the state. For purposes of the Committee on Levee Safety, “state” is defined to include the fifty states, the District of Columbia, Commonwealth of Puerto Rico, and any other territory or possession of the United States. Regulatory authority refers to the ability to promulgate or enforce regulations for non-federal levees. There shall be one state representative from each of the geographical boundaries of the following eight civil works divisions of USACE:

• Great Lakes and Ohio River Division

• Mississippi Valley Division

• North Atlantic Division

• Northwestern Division

• Pacific Ocean Division

• South Atlantic Division

• South Pacific Division

• Southwestern Division

The USACE eight civil works division boundaries can be found at: www.usace.army.mil/locations.

(2) Two representatives of the private sector defined as those who are currently not directly employed by a public governmental entity, such as federal, state, local, or regional government or tribe. Private sector representatives can be working for public governmental entities through contractual or other types of agreements. Private sector representatives can be currently employed, retired, or affiliated with a nongovernmental organization.

(3) Two representatives of local or regional governmental agencies defined as current local or regional government employees of any subdivision within a state as defined by state law. For example, this could be a city, county, or other subdivision of a state.

(4) Two representatives of tribes defined as a member or direct employee of a federally recognized tribe or person identified by a federally recognized tribe to represent them.

Terms of Voting Members: A voting member of the Committee can be appointed for a term of up to 3 years. Initial term appointments will be determined by the ASACW with the option to reappoint members as the ASACW deems appropriate. Initial term appointments will be staggered based on the following requirements.

(1) 5 members shall be appointed for a term of 1 year;

(2) 5 members shall be appointed for a term of 2 years; and

(3) 4 members, one state, private sector, local/regional, and tribal representative, shall be appointed for a term of 3 years.

Replacements or Vacancies: Appointed members may not provide their own alternate or replacement member. In cases in which an appointed member is not able to complete their full term and it is within less than 2 years of the member's original appointment date, the ASACW may select a replacement from the current list of applicants if the applicant is still interested and willing to serve on the Committee. Otherwise, a vacancy on the Committee shall be filled in the same manner as the original appointment was made.

Compensation

(1) Each member of the Committee who is an officer or employee of the United States shall serve without compensation in addition to compensation received for the services of the member as an officer or employee of the United States; but shall be allowed a per diem allowance and reimbursable expenses for travel, as authorized for an employee of an agency under subchapter I of chapter 57 of title 5, while away from the home or regular place of business of the member in the performance of the duties of the Committee.

(2) Each member of the Committee who is not an officer or employee of the United States shall receive a stipend of $100 per business day to participate in full Committee meetings that are formally convened by USACE and FEMA and in coordination with the Committee Chairperson. Meeting durations must be a minimum of one full business day or more, not including travel time, to receive the stipend. In addition, non-federal members shall be allowed a per diem allowance and reimbursable expenses, as authorized for an employee of an agency under subchapter I of chapter 57 of title 5, while away from the home or official worksite of the member in the performance of services for the Committee for meetings convened by USACE and FEMA in coordination with the Chairperson.

Conflict of Interest: Committee members cannot be part of any transaction in which a member has a direct or indirect personal financial interest or will obtain an economic benefit as a result of their participation on the Committee.

COVID-19 Vaccination: Each Committee member will be required to show proof of vaccination against COVID-19 to enable attendance at any in-person meeting convened by USACE and FEMA for the purposes of the National Levee Safety Program, including Committee meetings, public meetings, and meetings held in Federal buildings.

Membership Responsibilities: Committee members will not be responsible for developing program deliverables or making directional decisions for the National Levee Safety Program; however, all members will be expected to fulfill the following list of responsibilities. In cases in which a member cannot fulfill these responsibilities, the ASACW reserves the right to replace the Committee member.

(1) Strive to understand the widest possible range of diverse perspectives.

(2) Serve as a liaison with the various stakeholder groups represented to bring diverse viewpoints and interests into consideration.

(3) Enhance awareness of the National Levee Safety Program through each members' professional networks.

(4) Assist with developing balanced, acceptable solutions across stakeholder groups who may have competing or perceived to be competing interests.

(5) Be active participants in all Committee meetings, limiting distractions and other work to the maximum extent possible. Notify the Chairperson if attendance at a Committee meeting is not possible.

(6) Dedicate time to review materials provided in advance of each meeting.

Committee Chairperson: The voting members of the Committee shall appoint a Chairperson from among the voting members of the Committee. The Chairperson shall serve a term of not more than 2 years. The following will be the responsibilities of the Chairperson.

(1) The Chairperson serves as the Committee representative for coordination with USACE and FEMA on topics or products in which the Committee will provide advice and development of meeting schedules and agendas.

(2) The Chairperson will foster an environment of collaboration in order to understand the widest possible range of diverse perspectives, while avoiding extensive focus on any one specific perspective.

(3) The Chairperson presides over the Committee to ensure the purpose and goals of the Committee are accomplished.

(4) The Chairperson presides over all Committee meetings to ensure meeting purposes are met.

(5) The Chairperson will lead the Committee to work towards consensus advice or recommendations that support a National approach to levee safety.

(6) The Chairperson has the ability to appoint a vice-Chairperson from the voting members to assume the duties of the Chairperson in cases of unexpected absences.

Subcommittees or Work Groups

(1) The Committee may form temporary subcommittees or ad-hoc work groups comprised of volunteers from all levels of government and the private sector to provide advice on specific issues relevant to the National Levee Safety Program. The Committee shall seek concurrence from the non-voting member appointed by the ASACW to form a subcommittee or working group and its membership.

(2) Members of subcommittees or work groups must present their work to the Committee for full deliberation and discussion.

(3) Subcommittees or work groups have no authority to make decisions on behalf of the Committee.

(4) Members of subcommittees or work groups shall not be part of any transaction in which they have a direct or indirect personal financial interest or will obtain an economic benefit as a result of their service to the Committee, subcommittee, or working group.

(5) No compensation will be provided to members of subcommittees or work groups.

Non-Voting Member Responsibilities (USACE and FEMA)

(1) Coordinate with the Chairperson to determine priority topics or issues in need of Committee feedback.

(2) Ensure that USACE and FEMA activities related to the National Levee Safety Program are synchronized with the advice and information from the Committee including overall scoping, review of deliverables, and incorporation of broader stakeholder feedback.

(3) Coordinate with the Federal advisory group regarding issues of federal alignment or common federal agency approaches.

(4) Inform the Committee on how Committee recommendations were considered.

Designated Committee Coordinator: USACE will provide the Committee with one designated person who will have the following responsibilities.

(1) Work with the Chairperson to schedule and organize all meetings.

(2) Provide a qualified facilitator and administrative support for all Committee meetings.

(3) Ensure effective Committee operations.

(4) Serve as the point of contact between the Committee and the ASACW.

Committee Meetings

(1) All meetings will be convened by the USACE and FEMA in coordination with the Chairperson.

(2) It is anticipated that meetings will be held in-person whenever possible but may be conducted virtually if necessary.

(3) It is estimated that the Committee on Levee Safety will meet for a duration of 3 business days, allowing for travel on Mondays and Fridays, on a frequency of approximately every 4 months.

(4) Scheduling of meetings will be done in advance and in coordination with Committee members to maximize participation.

(5) Meetings will be held in a variety of locations in the U.S. to promote field exploration, stakeholder feedback and equity of travel time for participants.

(6) Meeting notes will be available for review within one week of the end of the meeting.

Committee Recommendations and Documentation

(1) To the extent possible, the Committee will provide consensus advice and recommendations in writing to the USACE and FEMA non-voting members. Should a case arise where consensus cannot be achieved, the Chairperson may call for a vote among the voting members in order to reach a final recommendation. Areas of consensus, divergence, or those who abstain will be documented and provided to USACE and FEMA.

(2) At the request of the Chairperson, USACE may provide technical writing support to assist the Committee with documentation of recommendations.

(3) After each time the Committee provides recommendations, USACE and FEMA will inform the Committee within a reasonable amount of time whether the recommendations were incorporated or reasons the recommendations were not incorporated.

Applicability of Federal Advisory Committee Act: The Federal Advisory Committee Act (5 U.S.C. App.) shall not apply to the Committee on Levee Safety. Reference 33 U.S.C. 3302(h).

Committee Charter: Upon appointment of the Committee members, a charter containing the membership and operating procedures described in this notice will be finalized and signed by the ASACW. The charter will then be reviewed by the ASACW every 3 years in order to assess the Committee's purpose and effectiveness and adjust the charter if necessary. The Committee may propose amendments at any time to the charter to the Designated Committee Coordinator, who is responsible for seeking approval of amendments to the charter by the ASACW.

Desired Member Expertise and Experience Based on Representative Category

(1) State Government Representative. Defined as a current state government employee of a state agency that has regulatory authority over the safety of any non-federal levee in the state. Regulatory authority refers to the ability to promulgate or enforce regulations for non-federal levees. The following are the desired types of expertise and experience for state government representatives on the Committee.

• Developing state law, state regulations, local ordinances, or state-level public policy.

• Overseeing enforcement or compliance of state law, state regulations, or local ordinances, including permitting (ideally related to floodplain management or environmental compliance).

• Flood risk management projects or programs at the state, watershed level or with multiple states.

• Applying for or distributing grants or other federal assistance.

• Planning, organizing, coordinating or implementing community level programs or working with disadvantaged communities.

• Implementing the National Flood Insurance Program, including state hazard mitigation planning, or the National Dam Safety Program at the state level.

• Resource or asset management at the state level.

• Emergency planning, response, or coordination at the state level.

• Green infrastructure, environmental mitigation/restoration, or natural benefits of floodplains.

(2) Private Sector Representative. Defined as a person who is not directly employed by a public governmental entity, such as federal, state, local, or regional government or tribe. Private sector representatives can be working for public governmental entities through contractual or other types of agreements. Private sector representatives can be currently employed, retired, or affiliated with a nongovernmental organization. The following are the desired types of expertise and experience for the private sector representatives on the Committee.

• Evaluating or assessing existing levees or dams or floodplain related scenarios, including levee accreditation evaluations for the National Flood Insurance Program.

• Performing risk assessments on dams or levees.

• Design and construction or operation/maintenance/inspections of levees or dams.

• Planning, organizing, coordinating or implementing community/stakeholder outreach; or expertise in social sciences.

• Green infrastructure, environmental mitigation/restoration, or natural benefits of floodplains.

• Relevant legal expertise, knowledge, and experience (e.g., in areas of public policy, liability).

• Floodplain management, flood hazard mitigation, or flood preparedness/warning/recovery.

• Knowledge and expertise in climate science.

• Community planning or working with disadvantaged communities.

• Developing public policy or public programs.

(3) Local or Regional Government Representative. Defined as a current local or regional government employee of any subdivision of a state as defined by state law. For example, this could be a city, county, or other subdivision of a state. The following are the desired types of expertise and experience for the local or regional government representatives on the Committee.

• Developing local/regional regulations, ordinances, or public policy.

• Overseeing enforcement or compliance of regulations or ordinances, including permitting (ideally related to floodplain management or environmental compliance).

• Flood risk management projects or programs at the local or watershed level.

• Planning, organizing, coordinating or implementing community level programs or community outreach efforts, including with disadvantaged communities.

• Implementing the National Flood Insurance Program, including development or implementing floodplain management plans or risk communication efforts.

• Emergency planning, response, or coordination at the community level.

• Green infrastructure, environmental mitigation/restoration, or natural benefits of floodplains.

(4) Tribal Representative. Defined as a member or direct employee of a federally recognized tribe or person identified by a federally recognized tribe to represent them. Tribal representatives should have knowledge and awareness of tribal interests or concerns related to lands or resources that may be impacted by levees.

Additional Specialized Factors That May Be Considered for All Applicants

• Years of experience

• Professional registrations or certifications

• Level of education, specialized education

• Leadership experience

• Membership and activity in professional organizations

• Membership on expert panels or committees

• Training/professor/instructor experience

• Primary or contributing author of technical papers, publications, or significant reports

• Additional applicable experience

Application Requirements for the Committee on Levee Safety. For those persons interested in becoming a member of the Committee on Levee Safety and who have the desire, ability, and expertise, please submit the following information.

(1) General Information: Name, Address, Phone, Email.

(2) Stakeholder Representative Category: Identify one of the following stakeholder categories you are intending to represent. If representing a state, local, or regional government, please provide proof of employment. If representing the private sector, please provide proof of employment or statement that identifies the affiliation for your identified field. If representing a federally recognized tribe, please provide proof of employment with the tribe or tribal membership or official letter from the federally recognized tribe stating that you are representing them.

• State Government Representative: Defined as a current state government employee of a state agency that has regulatory authority over the safety of any non-federal levee in the state. Regulatory authority refers to the ability to promulgate or enforce regulations for non-federal levees.

• Private Sector Representative: Defined as a person who is not directly employed by a public governmental entity, such as federal, state, local, or regional government or tribe. Private sector representatives can be working for public governmental entities through contractual or other types of agreements.

• Local or Regional Government Representative: Defined as a current local or regional government employee of any subdivision of a state as defined by state law. For example, this could be a city, county, or other subdivision of a state.

• Tribal Representative: Defined as a member or direct employee of a federally recognized tribe or person identified by a federally recognized tribe to represent them.

(3) Statement of Qualification (not to exceed 750 words). Please provide a written statement that describes your areas of expertise related to the stakeholder category you would be representing (state, private sector, local/regional, or tribal).

(4) Statement of Participation (not to exceed 500 words). Please provide a written statement as to why you should be appointed as a stakeholder representative and how your participation will contribute to fulfilling the roles and responsibilities of the Committee on Levee Safety.

(5) Experience with Collaboration (not to exceed 500 words). Please provide a written statement describing past experience(s) you have had working collaboratively with a group of individuals representing varied interests towards achieving a mutual goal. Please include the outcome or results of such effort(s).

(6) Acknowledgements. Please include a statement that you have read and agree to the following:

• Your willingness to participate in a virtual interview as part of the selection process if requested or provide additional information if needed.

• Your ability and willingness to accept up to a three-year commitment to serve on the Committee on Levee Safety without compensation, other than the nominal stipend and travel expenses.

• Your willingness to adhere to and support the Committee on Levee Safety charter.

• Your commitment to seek balanced recommendations that address multiple interests and concerns.

• Your willingness to commit the time that may be required to participate on the Committee.

• Your consent that this application may become part of the public record.

• Your acknowledgment that if appointed, as a member you cannot be part of any transaction in which you have a direct or indirect personal financial interest or will obtain an economic benefit as a result of your participation on the Committee nor can you enter into a relationship with vendors for pay in matters that are currently being considered by the Committee.

• Consent that if appointed, your name may be listed on a public website or other Committee on Levee Safety documents.

• Verification that all information submitted is correct and true to the best of your knowledge.

Application Review Process. To be considered, all information requested must be complete and received within the timeline specified in this notice. Full consideration will be given to all complete applications received by the specified due date. All applicants will be notified in writing as to the final decision about their application.

Michael L. Connor,
Assistant Secretary of the Army, (Civil Works).

[FR Doc. 2022-01159 Filed 1-20-22; 8:45 am]

BILLING CODE 3720-58-P